DEPARTMENT OF THE INTERIOR

Bureau of Land Management

[LLUTG01100-11-L13100000-EJ0000]

Notice of Availability of a Supplement to the Draft Environmental Impact Statement for the Greater Natural Buttes Area Gas Development Project, Uintah County, UT

AGENCY: Bureau of Land Management, Interior.

ACTION: Notice of availability.

SUMMARY: Under the National Environmental Policy Act (NEPA), the Federal Land Policy and Management Act of 1976 (FLPMA) and associated regulations, the Bureau of Land Management (BLM) has prepared a Supplement to the Draft Environmental Impact Statement (EIS) that evaluates, analyzes, and discloses to the public additional air quality impacts of the Greater Natural Buttes proposal to develop natural gas in Uintah County, Utah. All other environmental impacts are incorporated by reference to the Draft EIS. This notice announces a 45-day public comment period to meet the requirements of the NEPA.

DATES: The Supplement to the Draft EIS will be available for public review for 45 calendar days following the date that the Environmental Protection Agency publishes its NOA in the Federal Register. The BLM can best use comments and resource information submitted within this 45-day review period.

ADDRESSES: Comments on the Supplement may be submitted by any of the following methods:

• Mail: Bureau of Land Management, Attn: Stephanie Howard, Vernal Field Office, 170 South 500 East, Vernal, UT 84078.

• E-mail: UT_Vernal_Comments@blm.gov.

• Fax: (435) 781-4410.

Please reference the Greater Natural Buttes Supplement when submitting your comments. Comments and information submitted on the Supplement to the Draft EIS for the Greater Natural Buttes project, including names, e-mail addresses, and street addresses of respondents will be available for public review at the Vernal Field Office. The BLM will not accept anonymous comments. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Stephanie Howard, Project Manager, BLM Vernal Field Office, 170 South 500 East, Vernal, UT 84078; telephone, 435-781-4400.

SUPPLEMENTARY INFORMATION: The Greater Natural Buttes Project Area (GNBPA) is located in Uintah County, Utah.

Salt Lake Meridian, Utah

T. 8 S., R. 20-23 E.,

T. 9 S., R. 20-24 E.,

T. 10 S., R. 20-23 E.,

T. 11 S., R. 21-22 E.

The areas described aggregate approximately 162,911 acres in an existing gas producing area, according to the official plats of the surveys of the said lands, on file in the Bureau of Land Management.

In response to a proposal submitted by Kerr-McGee Oil & Gas Onshore LP (KMG), a wholly-owned subsidiary of Anadarko Petroleum Corporation, the BLM published in the October 5, 2007, Federal Register, a Notice of Intent (NOI) to prepare an EIS. In addition, a 45-day public comment period for the Draft EIS began on July 16, 2010, when the EPA published a Notice of Availability for the Draft EIS in the Federal Register, and ended on August 30, 2010.

This notice announces a Supplement to the Draft EIS, which is located online at http://www.blm.gov/ut/st/en/fo/vernal/planning/nepa_.html. The Supplement to the Draft EIS analyzes only new information relating to the project's conformance with the National Ambient Air Quality Standards for 1-hour nitrogen dioxide (NO2) and sulfur dioxide (SO2), and discloses recent ozone monitoring data. All other environmental impacts are incorporated by reference to the Draft EIS. A Final EIS will be prepared after the comment period for the Supplement closes. All comments received during the Draft EIS comment period and the Supplement comment period will be responded to in the Final EIS.

The BLM asks that those submitting comments make them as specific as possible with reference to chapters, page numbers, and paragraphs in the Supplement to the Draft EIS. Comments that contain only opinions or preferences will not receive a formal response; however, they will be considered, and included, as part of the BLM decision-making process. The most useful comments will contain new technical or scientific information, identify data gaps in the impact analysis, or provide technical or scientific rationale for opinions or preferences.

Jeff Rawson,
Associate State Director.

[FR Doc. 2011-14405 Filed 6-9-11; 8:45 am]

BILLING CODE 4310-DQ-P